DEPARTMENT OF TRANSPORTATION

Federal Motor Carrier Safety Administration

[Docket No. FMCSA-2008-0038]

Agency Information Collection Activities; New Information Collection: Survey of Over-the-Road Bus Companies About Accessible Transportation for Individuals With Disabilities

AGENCY: Federal Motor Carrier Safety Administration (FMCSA), DOT.

ACTION: Notice and request for comments.

SUMMARY: The FMCSA invites comments about our intention to request the Office of Management and Budget (OMB) to approve a new Information Collection Request (ICR). The new ICR is associated with a review of the Americans with Disabilities Act of 1990 (ADA) implementing regulations for over-the-road bus companies, contained in 49 CFR part 37 subpart H. The regulatory review is required by section 37.215. The collected information would assist DOT with the decision to modify or retain the requirements contained in the ADA regulations. This notice is required by the Paperwork Reduction Act of 1995.

DATES: Comments must be submitted on or before June 23, 2008.

ADDRESSES: You may submit comments bearing the Department of Transportation (DOT) Docket Management System (DMS) Docket Number FMCSA Docket Number FMCSA-2008-0038 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC 20590-0001 between 9 a.m. and 5 p.m., e.t., Monday through Friday, except Federal Holidays.

• Fax: 1-202-493-2251.

Each submission must include the Agency name and the docket number for this Notice. Note that DOT posts all comments received without change to http://www.regulations.gov, including any personal information included in a comment. Please see the Privacy Act heading below:

Docket: For access to the docket to read background documents or comments, go to http://www.regulations.gov at any time or Room W12-140 on the ground level of the West Building, 1200 New Jersey Avenue, SE., Washington, DC, between 9 a.m. and 5 p.m., Monday through Friday, except Federal holidays. The DMS is available 24 hours each day, 365 days each year. If you want acknowledgement that we received your comments, please include a self-addressed, stamped envelope or post card or print the acknowledgement page that appears after submitting on-line.

Privacy Act: Anyone may search the electronic form of all comments received into any of our dockets by the name of the individual submitting the comment (or of the person signing the comment, if submitted on behalf of an association, business, labor union, etc.). You may review the DOT's complete Privacy Act Statement in the Federal Register on April 11, 2000 (65 FR 19477-78; Apr. 11, 2000). This information is also available at http://Docketinfo.dot.gov.

FOR FURTHER INFORMATION CONTACT: Mr. Peter Chandler, Federal Motor Carrier Safety Administration, Office of Enforcement and Compliance, Commercial Passenger Carrier Safety Division, 1200 New Jersey Avenue, SE., Washington, DC 20590. Telephone: (202) 366-5763, or e-mail peter.chandler@dot.gov.

SUPPLEMENTARY INFORMATION: Background: On September 28, 1998, DOT issued final regulations, in response to the ADA, which required operators of over-the-road buses to provide service accessible (OTRBs) to persons with disabilities and to ensure that all new OTRBs were accessible to such persons, including those who use wheelchairs. DOT is required by 49 CFR 37.215 to review the various requirements within the ADA regulations for OTRB companies. As part of this review, DOT is required to consider certain factors, including the percentage of accessible ORTBs in the fleets of OTRB companies, the success of such companies at meeting the requests of passengers with disabilities for accessible OTRBs in a timely manner, ridership of OTRBs by passengers with disabilities, volume of complaints by passengers with disabilities, and the cost and service impacts of these requirements. After the review, DOT is required to decide whether it is appropriate to revise the ADA regulations for OTRB companies (i.e. whether certain provisions of the ADA regulations should be removed, modified, or made more stringent). DOT has a currently approved information collection under control number 2100-0019 to provide the Agency with data for use in its review of the ADA-related requirements and to monitor compliance by OTRB companies. Such data are reported to FMCSA. For the section 37.215 review, FMCSA is providing data and analytical support to the DOT's Office of the Secretary. Additional data collection from OTRB companies is necessary in order for DOT to conduct an effective review and make an informed regulatory policy decision. Specifically, data about bus fleet accessibility, fulfillment of accessible bus requests, and ridership and volume of complaints by passengers with disabilities, are needed from OTRB companies. FMCSA would send letters to approximately 3,800 registered OTRB companies that will be requested to complete and submit an enclosed form.

Title: Survey of Over-the-Road Bus Companies about Accessible Transportation for Individuals with Disabilities.

Type of Information Collection Request: New information collection.

Respondents: Private entities that operate OTRBs, are primarily in the business of transporting people, and whose operations affect commerce.

Estimated Number of Respondents: 3,800.

Estimated Time per Response: The estimated average burden per response is 15 minutes.

Estimated Total Annual Burden: 950 hours [3,800 responses × 15 minutes/60 minutes per response = 950 hours].

Frequency of Response: This proposed information collection is planned to be conducted only once in a year. FMCSA may request the information be reported a second time 12 months after the initial request for a second 12-month period of data. A decision to request the information for a second time will be based upon the number of responses and the content of such responses to the initial request.

Public Comments Invited: Interested parties are invited to send comments regarding any aspect of this information collection, including but not limited to: (1) Whether the proposed collection is necessary for the performance of DOT's functions; (2) the accuracy of the estimated burden; (3) ways to enhance the quality, usefulness, and clarity of the collected information; and (4) ways to minimize the collection burden without reducing the quality of the collected information. Comments submitted in response to this notice will be summarized and/or included in the request for OMB's clearance for this information collection.

Issued on: April 14, 2008.
Michael S. Griffith,
Acting Associate Administrator, Research and Information Technology.

[FR Doc. E8-8670 Filed 4-21-08; 8:45 am]

BILLING CODE 4910-EX-P